GENERAL SERVICES ADMINISTRATION

[OMB Control No. 3090-0290;Docket No. 2010-0002; Sequence 20]

Submission for OMB Review; OMB Control No. 3090-0290; Central Contractor Registration Requirements for Prime Grant Recipients

AGENCY: Office of Technology Strategy/Office of Governmentwide Policy, General Services Administration (GSA).

ACTION: Notice of request for public comments regarding a new OMB information clearance.

SUMMARY: Under the provisions of the Paperwork Reduction Act of 1995 (44 U.S.C. chapter 35), the Regulatory Secretariat will be submitting to the Office of Management and Budget (OMB) a request to review and approve an emergency new information collection requirement regarding Central Contractor Registration Requirements for Prime Grant Recipients.

Public comments are particularly invited on: Whether this collection of information is necessary for the proper performance of functions of the Central Contractor Registration Requirements for Prime Grant Recipients, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before February 28, 2011.

ADDRESSES: Submit comments identified by Information Collection 3090-0290, Central Contractor Registration Requirements for Prime Grant Recipients by any of the following methods:

• Regulations.gov: http://www.regulations.gov. Submit comments via the Federal eRulemaking portal by inputting “Information Collection 3090-0290, Central Contractor Registration Requirements for Prime Grant Recipients” under the heading “Enter Keyword or ID” and selecting “Search”. Select the link “Submit a Comment” that corresponds with “Information Collection 3090-0290, Central Contractor Registration Requirements for Prime Grant Recipients”. Follow the instructions provided at the “Submit a Comment” screen. Please include your name, company name (if any), and “Information Collection 3090-0290, Central Contractor Registration Requirements for Prime Grant Recipients” on your attached document.

• Fax: 202-501-4067.

• Mail: General Services Administration, Regulatory Secretariat (MVCB), 1275 First Street, NE., Washington, DC 20417. ATTN: Hada Flowers/IC 3090-0290.

Instructions: Please submit comments only and cite Information Collection 3090-0290, Central Contractor Registration Requirements for Prime Grant Recipients, in all correspondence related to this collection. All comments received will be posted without change to http://www.regulations.gov, including any personal and/or business confidential information provided.

FOR FURTHER INFORMATION CONTACT: Ms. Janice Miller, Program Analyst, Office of Technology Strategy/Office of Governmentwide Policy, at jan.miller@gsa.gov.

SUPPLEMENTARY INFORMATION:

A. Purpose

This information collection requires information necessary for prime awardee registration into the FFATA Subaward Reporting System (FSRS) and review of its entity-related information. This will allow for prime awardee reporting of subaward and executive compensation data pursuant to the Federal Funding Accountability and Transparency Act (FFATA, or Transparency Act). This information collection requires that all prime grant awardees, subject to reporting under the Transparency Act register and maintain their registration in CCR.

B. Discussion of Public Comments

Rename the Central Contractor Registration to more accurately reflect its new purpose. Four comments were received expressing concern regarding the name of the Central Contractor Registration. Two respondents suggested that if it is necessary to have prime grantees maintain registration in a centralized database of all Federal awardees, that the registry be renamed to reinforce the statutory distinction between acquisition and assistance awards. Since nongovernmental organizations accept only assistance awards (cooperative agreements) from the U.S. Government, they are recognized as an independent, non-state actor that provides technical assistance through a people-to-people approach. As they are not agents of the U.S. Government, they feel that requiring grantees to register in a “contractor” registry would, by virtue of association, negate the distinction between assistance and acquisition, and could result in confusion about their role in implementing programs overseas. Two respondents believe that OMB should recognize that use of the term “contractor” in a requirement that is now being applied to recipients of grants and cooperative agreements is likely to have a problematic impact because of the documented tendency on the part of some Federal agencies to improperly differentiate between acquisition and assistance instruments, and that this has often been the case in Federal agencies that fund projects that are performed overseas. These respondents suggest that OMB consider changing the nomenclature, at some future date, to the Central Contractor and Grantee Registry to reinforce the statutory distinction derived from the Federal Grant and Cooperative Agreement Act of 1978 (Pub. L. 95-224).

Response: GSA acknowledges that the Central Contractor Registration (CCR) is now used by and supports both the contracts and grants communities. The registration services it provides are no longer limited to contractors alone. GSA also acknowledges the name CCR is not inclusive of the full range of registration services provided. Instead of renaming the system, however, GSA is undertaking a restructuring of the supporting architecture to define consolidated, streamlined business services. CCR is the first migration group of existing, government-wide systems moving to this new architecture, known as the System for Award Management (SAM). The new system will provide the same capabilities found in the Federal procurement and award systems today—streamlined for efficiency and supported by common services to reduce costs and improve data quality. The business service for entity management with SAM will incorporate a restructured registration process better suited to the needs of both the contracts and grants communities as well as the ability to manage certifications and representations. While CCR will cease to exist as an independent application, the Web address for CCR (https://www.bpn.gov/ccr/default.aspx) will remain active for a period of time following the migration redirecting users to SAM where registration business services will be provided.

Foreign Assistance Awards. One respondent urged GSA and OMB to withdraw this notice until consultations can be had on less burdensome and more appropriate accountability procedures for international development and humanitarian relief nongovernmental organizations (NGOs) implementing Federal funding that will not increase the security risks for organizations and staff in the field.

Response: OMB and GSA sought to reduce burden on prime awardees while providing a means to report subaward activity pursuant to the Federal Funding Accountability and Transparency Act (Transparency Act). This information collection requires that all prime grant awardees subject to reporting under the Transparency Act register and maintain their active registration in CCR. The Transparency Act does not allow for exemptions for foreign assistance awards. This registration enables significant data reuse within the FSRS and other government systems, while increasing data quality. OMB will continue to work with all prime recipients' concerns to identify the least burdensome methods for reporting, recognizing the need to ensure the safety and security of certain foreign assistance recipients. As Transparency Act reporting matures, GSA welcomes specific recommendations on how to minimize reporting burden while complying with the Act's requirements.

Burden Imposed. Three comments were received regarding the burden of this information collection. One respondent commented that regarding the GSA estimate of 23,358 respondents, each respondent is expected to submit one response with a calculated entry time of one hour per response appears only to reflect a one-time estimation of the reporting burden on the prime without considering the subsequent efforts that would need to be made over the lifetime of an award by both prime and subawardees to maintain the accuracy of the information. One respondent stated that the notice does not offer estimates of the direct or indirect costs associated with collection, entry and maintenance of prime and subawardee records and that, given the time and funding required to meet the requirement in full, it would be difficult for U.S.-based international NGOs with hundreds of subawards and limited budgets to meet the reporting deadline for each subrecipient without dedicating a substantial number of new additional administrative personnel. Another respondent commented that it appears from the precision of the data used to identify the number of respondents (23,358), GSA is relying on a specific source rather than simply estimating a number. But because there is no identification about where these data on respondents comes from, it is virtually impossible to assess whether they are accurate or based on valid assumptions and methodologies. The respondent requests that GSA and OMB publish additional information about the sources of data in the request so that they can be assessed in accordance with the letter and spirit of the Paperwork Reduction Act. They also add that the simple round number of 1 hour per response identified in the estimate belies the effort that they and other similarly situated organizations would be required to undertake. One respondent requested that the burden estimate be re-evaluated.

Response: The figure of 23,358 grants respondents was derived from the number of grantees who are not currently registered in CCR. This number is based on the total number of unique prime grant awardees reporting into USAspending.gov over all years (80,625), minus the total number of Recovery Act-funded prime grant awardees who are currently required under FederalReporting.gov to register in CCR (55,267). The resulting remainder, 23,358, constitutes the total number of new prime grant awardees who may not be currently registered in CCR, and will, as a result of this revision, be required to register in the system. This figure may be an overestimate given that prime grant awardees may also be Federal contractors who, under this existing collection, are required to register in CCR. This figure may also be an overestimate to the extent that any grant awardee whose award amount is reimbursed through the Department of the Treasury's Secure Payment System is also already required to register in CCR; and because not all prime grant awardees will be required to register in CCR, if no reporting under FFATA is required. Because these are new statutory requirements for reporting, GSA has provided its best estimates based on available information. Where the public is encouraged to provide specific burden estimates associated with this reporting requirement, GSA will continue to review and revise these burden estimates as more information becomes available.

Purpose of the Information Collection Request. One respondent asked what this ICR really does and why was it an emergency new information collection requirement.

Response: This information collection requires that all prime grant awardees subject to reporting under FFATA register and maintain their registration in CCR. Emergency review and clearance of this new information collection requirement is essential to the implementation of FFATA. Without expedited OMB review and approval, prime grant awardees would not have been able to report subaward and executive compensation data pursuant to FFATA's transparency requirements for new grant awards as of October 1, 2010. The CCR was developed to centralize awardee information. This collection will leverage the central clearinghouse capacity of CCR to ensure that prime grant awardees have minimal burden in providing the Federal Government with its identifying information. This will ensure that the information provided to the Federal Government once will be used multiple times to facilitate multiple reporting requirements for prime grant awardees pursuant to FFATA.

C. Annual Reporting Burden

Respondents: 23,358.

Responses Per Respondent: 1.

Hours Per Response: 1.

Total Burden Hours: 23,358.

Obtaining Copies of Proposals: Requesters may obtain a copy of the information collection documents from the General Services Administration, Regulatory Secretariat (MVCB), 1275 First Street, NE., Washington, DC 20417, telephone (202) 501-4755. Please cite OMB Control No. 3090-0290, Central Contractor Registration Requirements for Prime Grant Recipients, in all correspondence.

Dated: January 21, 2011.
Casey Coleman,
Chief Information Officer.

[FR Doc. 2011-1751 Filed 1-26-11; 8:45 am]

BILLING CODE 6820-WY-P